DEPARTMENT OF HEALTH AND HUMAN SERVICES

Centers for Medicare and Medicaid Services

[Document Identifier: CMS-R-238]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Inpatient Psychiatric Services for Individuals Under Age 21 and Supporting Regulations in 42 CFR Section 441.151 and 441.152; Use: Certification requirements in 42 CFR 441.151 and 441.152 require that if it is determined that psychiatric services in an inpatient setting for individuals under age 21 are necessary, certification must be in writing before an individual is admitted for treatment. This information is used by States to document that effective screening measures are in place to justify the use of inpatient psychiatric services; Form Number: CMS-R-238 (OMB#: 0938-0754); Frequency: Recordkeeping; Affected Public: State, Local or Tribal Govt., Business or other for-profit, and Not-for-profit institutions; Number of Respondents: 80,000; Total Annual Responses: 80,000; Total Annual Hours: 1.

To obtain copies of the supporting statement and any related forms for the proposed paperwork collections referenced above, access CMS's Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice directly to the CMS Paperwork Reduction Act Reports Clearance Officer designated at the address below:

CMS, Office of Strategic Operations and Regulatory Affairs, Division of Regulations Development, Attention: Melissa Musotto, Room C5-14-03, 7500 Security Boulevard, Baltimore, Maryland 21244-1850.

Dated: December 8, 2004.
John P. Burke, III,
CMS Paperwork Reduction Act Reports Clearance Officer, Office of Strategic Operations and Regulatory Affairs Regulations Development Group.

[FR Doc. 04-27705 Filed 12-17-04; 8:45 am]

BILLING CODE 4120-03-P